DEPARTMENT OF HEALTH AND HUMAN SERVICES

Substance Abuse and Mental Health Services Administration

Fiscal Year (FY) 2003 Funding Opportunity

AGENCY: Substance Abuse and Mental Health Services Administration, HHS.

ACTION: Notice of intent to award a Single Source Cooperative Agreement to the Ohio Department of Alcohol and Drug Addictions Services' (ODADAS) Rehabilitation and Restitution project in Cuyahoga County, Ohio.

SUMMARY: The Substance Abuse and Mental Health Services Administration (SAMHSA), Center for Substance Abuse Treatment (CSAT) is publishing this notice to provide information to the public concerning a planned single source cooperative agreement in the amount of $600,000 in FY 2003 to the Ohio Department of Alcohol and Drug Addictions Services' (ODADAS) Rehabilitation and Restitution project in Cuyahoga County, Ohio. This is not a formal request for applications. Assistance will be provided only to the above named agency based on the receipt of a satisfactory application that is approved by an independent review group.

Funding Opportunity Number: TI 03-013.

Catalog of Federal Domestic Assistance (CFDA) Number: 93.243

Authority/Justification: Section: 509 of the Public Health Service Act, as amended and subject to the availability of funds. Only the Ohio Department of Alcohol and Drug Addiction Services (ODADAS)/Cuyahoga County is eligible to apply for supplemental funding.

SAMHSA/CSAT's Rehabilitation and Restitution Program (RRP), announced in 2001, is a unique program containing some previously untested program elements and approaches. RRP is limited to applicants in States that have laws permitting the sealing of the records of most convicted, first-time, non-violent ex-felons within 5 years of the end of post-release supervision. This restriction is essential because SAMHSA/CSAT grants are no longer than 5 years in length, and consequently, States requiring longer waiting periods cannot provide the results needed within a 5-year project period. Only 4 applications were received due to this limitation.

Two Ohio projects were funded in 2002, ODADAS/Cuyahoga County and the Clermont County Treatment Alternatives for Safe Communities (TASC). Uncertainty about appropriate program costs and the uniqueness and importance of the program resulted in a requirement that grantees go through a planning year to design their projects. The ODADAS/Cuyahoga County project has, in the planning year, demonstrated management skills necessary to implement the project, entered into close collaborative relationships with other agencies essential to the successful completion of the project, and demonstrated the ability to recruit the required 1200 eligible project participants. However, other unanticipated gaps in their comprehensive project could jeopardize its success. These result in a need to increase, among other things:

• Residential treatment capacity;

• Employment and educational training components;

• Case management services; and

• Treatment services after the initial treatment period, typically beginning when the offender ends probation or parole.

Supplemental funding is critically necessary to address these gaps in services and ensure the success of the ODADAS/Cuyahoga County project. Project results will inform the national substance abuse field: (1) Whether comprehensive substance abuse treatment and other services and case management available for up to 5 years will reduce relapse and recidivism compared to programs that are much shorter; (2) Whether this program will increase the percentage of persons who have their first offense non-violent felony records sealed in States which permit this; and (3) whether the possibility of having felony records sealed significantly alters client behavior with respect to educational and job choices, relapse, and recidivism.

Contact for Additional Information: Bruce Fry, Government Project Officer, Division of Services Improvement, SAMHSA/CSAT, Rockwall II, 5600 Fishers Lane, Suite 740, Rockville, MD 20857; (301) 443-0128, bfry@samhsa.gov

Dated: July 25, 2003.
Anna Marsh,
Acting Executive Officer, Substance Abuse and Mental Health Services Administration.

[FR Doc. 03-19507 Filed 7-30-03; 8:45 am]

BILLING CODE 4162-20-P